DEPARTMENT OF THE TREASURY

Internal Revenue Service

Proposed Collection; Comment Request for Form 1120-FSC and Schedule P (Form 1120-FSC)

AGENCY: Internal Revenue Service (IRS), Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the IRS is soliciting comments concerning Form 1120-FSC, U.S. Income Tax Return of a Foreign Sales Corporation, and Schedule P (Form 1120-FSC), Transfer Price or Commission.

DATES: Written comments should be received on or before August 22, 2000 to be assured of consideration.

ADDRESSES: Direct all written comments to Garrick R. Shear, Internal Revenue Service, room 5244, 1111 Constitution Avenue NW., Washington, DC 20224.

FOR FURTHER INFORMATION CONTACT: Requests for additional information or copies of the form and instructions should be directed to Carol Savage, (202) 622-3945, Internal Revenue Service, room 5242, 1111 Constitution Avenue NW., Washington, DC 20224.

SUPPLEMENTARY INFORMATION: Title: Form 1120-FSC, U.S. Income Tax Return of a Foreign Sales Corporation, and Schedule P (Form 1120-FSC), Transfer Price or Commission.

OMB Number: 1545-0935.

Form Number: 1120-FSC and Schedule P (Form 1120-FSC).

Abstract: Form 1120-FSC is filed by foreign corporations that have elected to be FSCs or small FSCs. The FSC uses Form 1120-FSC to report income and expenses and to figure its tax liability. IRS uses Form 1120-FSC and Schedule P (Form 1120-FSC) to determine whether the FSC has correctly reported its income and expenses and figured its tax liability correctly.

Current Actions: The following changes are being considered: On page 2 of Form 1120-FSC in the section, Additional Information, new questions 5 and 6 are added. Question 5 asks whether, during the FSC's tax year, the FSC owned any foreign entities that are disregarded as entities separate from their owners under Regulations sections 301.7701-2 and 301.7701-3. Question 6 asks whether, during the FSC's tax year, the FSC owned at least a 10% interest, directly or indirectly, in any foreign partnerships. As a result of changes made to the alternative minimum tax (AMT) lines on the individual tax forms due to section 501 of the Tax Relief Extension Act of 1999, the business credit forms are being revised to relocate their AMT lines. For consistency of presentation, on Schedule J of Form 1120-FSC the AMT line (line 7) is similarly being relocated to line 4 and a new subtotal line (line 5) is added. On Schedule P of Form 1120-FSC a new checkbox (checkbox 1b) is added for reporting on the transaction-by-transaction basis. The new checkbox indicates that the FSC is choosing to aggregate its transactions on a tabular schedule rather than reporting on Schedule P.

Type of Review: Revision of a currently approved collection.

Affected Public: Business or other for-profit organizations.

Estimated Number of Respondents: 5,000.

Estimated Time Per Respondent: 214 hours, 53 minutes.

Estimated Total Annual Burden Hours: 1,074,400.

The following paragraph applies to all of the collections of information covered by this notice:

An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

Request for Comments

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: June 16, 2000.
Garrick R. Shear,
IRS Reports Clearance Officer

[FR Doc. 00-15873 Filed 6-22-00; 8:45 am]

BILLING CODE 4830-01-P